DEPARTMENT OF THE INTERIOR

Bureau of Land Management

[LLWO3500000.L14400000.PN0000.18X; OMB Control Number 1004-0004]

Agency Information Collection Activities; Submission to the Office of Management and Budget for Review and Approval; Desert Land Entry Application

AGENCY: Bureau of Land Management, Interior.

ACTION: Notice of information collection; request for comment.

SUMMARY: In accordance with the Paperwork Reduction Act of 1995, the Bureau of Land Management (BLM) is proposing to renew an information collection.

DATES: Interested persons are invited to submit comments on or before September 6, 2018.

ADDRESSES: Send written comments on this information collection request (ICR) to the Office of Management and Budget's Desk Officer for the Department of the Interior by email at OIRA_Submission@omb.eop.gov; or via facsimile to (202) 395-5806. Please provide a copy of your comments to the BLM at U.S. Department of the Interior, Bureau of Land Management, 1849 C Street NW, Room 2134LM, Washington, DC 20240, Attention: Jean Sonneman; or by email to jesonnem@blm.gov. Please reference OMB Control Number 1004-0004 in the subject line of your comments.

FOR FURTHER INFORMATION CONTACT: To request additional information about this ICR, contact Flora Bell by email at flbell@blm.gov, or by telephone at 202-912-7347. You may also view the ICR at http://www.reginfo.gov/public/do/PRAMain.

SUPPLEMENTARY INFORMATION: In accordance with the Paperwork Reduction Act of 1995, the BLM provides the general public and other Federal agencies with an opportunity to comment on new, proposed, revised, and continuing collections of information. This helps us assess the impact of our information collection requirements and minimize the public's reporting burden. It also helps the public understand our information collection requirements and provide the requested data in the desired format. A Federal Register notice with a 60-day public comment period soliciting comments on this collection of information was published on April 5, 2018 (83 FR 14670), and the comment period ended on June 4, 2018. The BLM received one comment that did not pertain to the collection of information. The BLM did not revise the ICR in response.

We are again soliciting comments on the proposed ICR that is described below. We are especially interested in public comment addressing the following issues: (1) Is the collection necessary to the proper functions of the BLM; (2) will this information be processed and used in a timely manner; (3) is the estimate of burden accurate; (4) how might the BLM enhance the quality, utility, and clarity of the information to be collected; and (5) how might the BLM minimize the burden of this collection on the respondents, including through the use of information technology.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The BLM uses the information to determine if an individual is eligible to make a desert land entry for agricultural purposes.

Title of Collection: Desert Land Entry Application.

OMB Control Number: 1004-0004.

Form Number: 2520-1.

Type of Review: Extension of a currently approved collection.

Respondents/Affected Public: Individuals who wish to make a desert land entry for agricultural purposes.

Total Estimated Number of Annual Respondents: 3.

Total Estimated Number of Annual Responses: 3.

Estimated Completion Time per Response: 2 hours.

Total Estimated Number of Annual Burden Hours: 6 hours.

Respondent's Obligation: Required to obtain or retain a benefit.

Frequency of Collection: On occasion.

Total Estimated Annual Nonhour Burden Cost: $45.

An agency may not conduct or sponsor and a person is not required to respond to a collection of information unless it displays a currently valid OMB control number. The authority for this action is the Paperwork Reduction Act of 1995 (44 U.S.C. 3501 et seq).

Jean Sonneman,
Bureau of Land Management, Information Collection Clearance Officer.

[FR Doc. 2018-16857 Filed 8-6-18; 8:45 am]

BILLING CODE 4310-84-P